DEPARTMENT OF AGRICULTURE

Office of the Secretary

Privacy Act of 1974; Amendment of Existing System of Records; USDA/FS-33, Law Enforcement and Investigation Records

AGENCY: Office of the Secretary, USDA.

ACTION: Notice; request for comment.

SUMMARY: In accordance with the Privacy act of 1974, as amended, the U.S. Department of Agriculture (USDA) is proposing to amend the name of the existing system of records to USDA/FS-33, Law Enforcement and Investigative Records. USDA invites public comment on this amendment.

DATES:

Comment Date: Comments must be received on or before October 18, 2004.

Effective Date: These system amendments will be adopted without further notice on November 16, 2004, unless modified to respond to comments received from the public and published in a subsequent notice.

ADDRESSES: Send written comments to the Director, Law Enforcement and Investigations (Mail Stop 1140), USDA Forest Service, P.O. Box 96090, Washington, DC 20090-6090. Those who submit comments should be aware that all comments, including names and addresses when provided, are placed in the record and are available for public inspection. Individuals wishing to inspect comments are encouraged to call (703) 605-4732 to make arrangements.

FOR FURTHER INFORMATION CONTACT: Greg Nichols, USDA Forest Service, Law Enforcement and Investigations Staff, at (703) 605-4732, or Fax (703) 605-5112, or e-mail gnichols@fs.fed.us.

SUPPLEMENTARY INFORMATION: Pursuant to the Privacy Act (5 U.S.C. 552a), the Forest Service is proposing to amend the name of this system of records USDA/FS-33 Law Enforcement and Investigative Records to include a new system location and system manager, and include a new storage type of computer databases to store and retrieve information.

In accordance with the Privacy Act and OMB Circular A-130, the USDA has provided a report on this revised system of records to the Office of Management and Budget and to the Congress.

A copy of the amended system of records is set out at the end of this notice. Although the Privacy Act requires a Federal agency to solicit comments from the public only with respect to changes in a system's routine use, the department of Agriculture invites comments on all portions of this notice.

Dated: September 7, 2004.
Ann M. Veneman,
Secretary of Agriculture.

DEPARTMENT OF AGRICULTURE

USDA/FS-33

System Name:

Law Enforcement and Investigative Records, USDA/FS.

Security Classification:

None.

System Location:

These records are located at Forest Service Headquarters in Washington, DC, in the office of the Law Enforcement and Investigations Director; each Regional Office, in the office of the Special Agent in Charge; each Forest Supervisor Office, in the office of the Special Agent; each Ranger District Office, in the office of the Law Enforcement Officer; and in the Federal Law Enforcement Training Center (FLETC) in Glynco, Georgia, 31524, in the office of the Assistant Director, Training, Development and Standards. The addresses of these offices are listed in 36 CFR Part 200, subpart A, or in local telephone directories under the heading “United States Government, Department of Agriculture, Forest Service.”

Categories of Individuals Covered by the System:

• Subjects: Individuals against whom allegations of wrongdoing have been made or who have committed a violation.

• Principals: Individuals not named as subjects, but who may be responsible for alleged violations.

• Complainants: Those who allege wrongdoing.

• Others: Those closely connected with or contacted about an investigation or law enforcement issues.

• Law Enforcement and Investigations Personnel: Records pertaining to firearms certifications, issuance of credentials, physical fitness testing results, training records, and personal information.

Categories of Records in the System:

The system consists of files containing reports of investigation; correspondence; informal notes; statements of witnesses; names; addresses; social security numbers; dates of birth; law enforcement reports; and other available information incident to investigations conducted, enforcement actions, or violations; firearms inventory and officer certifications; credential information; qualifications of hours worked; and training records. Records in the system do not include general employee personnel folder (OPF) data.

Authority for Maintenance of the System:

Title 16, Untied States Code, section 559.

Purpose of the System:

The purpose of this system of records is to maintain (1) Records related to law enforcement investigations of civil, criminal, or regulatory violations of law; and (2) records related to Law Enforcement and Investigations personnel: firearms inventory and officer certifications; credential information; qualifications of hours worked; and training records.

Routine Uses of Information in the System:

(1) Disclose information to an appropriate agency, whether Federal, State, or local, charged with the responsibility of investigating or prosecuting a violation of law, rule, regulation, or order issued pursuant thereto, when information available indicates a violation or potential violation of law, whether civil, criminal, or regulatory in nature and whether arising by general statute or particular program statute, or by rule, regulation, or order issued pursuant thereto.

(2) Disclose information to a court, magistrate, or administrative tribunal, or to opposing counsel in a proceeding before any of the above, which constitutes evidence in that proceeding, or which is sought in the course of discovery.

(3) Disclose information to the Department of Justice for the defense of suits against the United States or its officers, or for the institution of suits for the recovery of claims by the United States Department of Agriculture.

(4) Disclose information to the Chairman of a Congressional Committee to conduct Committee business.

(5) Disclose information to a Member of Congress from the record of an individual in response to an inquiry from the Member of Congress made at the request of that individual. In such cases, however, the Member's right to a record is no greater than that of the individual.

Policies and Practices for Storing, Retrieving, Accessing, Retaining, and Disposing of Records in the System:

Storage:

Records are maintained in paper form in file folders or on computer printouts, and in computerized form stored in memory or on computer disk storage.

Retrievability:

Records are maintained under the agency's 5300 and 5320 file codes, identified by case numbers and/or subject name.

Safeguards (Access Controls):

Computer files are password protected. Other records are maintained in restricted areas during duty hours and in locked file rooms, locked file cabinets, and locked law enforcement offices during non-duty hours. Employee access is limited to approved persons with USDA security clearances.

Retention and Disposal:

Records are maintained in accordance with the Records Disposal Act of 1943 (44 U.S.C. 366-380) and the Federal Records act of 1950, and so designated in the Forest Service Records Management Handbook (FSH) 6209.11. Enforcement and investigative records are retained for a period of 10 years from the date the case file is closed. Records are disposed of by shredding or burning.

System Manager(s):

Law Enforcement and Investigations (LEI) Director, USDA Forest Service, 1400 Independence Avenue, SW., (Mail Stop 1140), Washington, DC 20090-1140; the LEI Special Agent in Charge or the Law Enforcement Officer at USDA Forest Service Regional, Forest Supervisor, and Ranger District Offices (listed in 36 CFR 200.2, subpart A or in local telephone directories under the heading “United States Government, Department of Agriculture, Forest Service”); and Assistant Director, Training, Developments and Standards, Federal Law Enforcement training Center (FLETC), Townhouse 378A, Glynco, GA 31524.

Notification procedures:

An individual may request information regarding this system of records, or information as to whether the system contains records pertaining to him/her by submitting a written request to the system manager.

Record Access Procedures:

An individual may request access to a record in this system, which pertains to him/her, by submitting a written request to the system manager.

Contesting record procedures:

An individual may contest information in this system, which pertains to him/her, by submitting a written request to the system manager.

Record Source Categories:

Information in this system of records is obtained from various sources, including, but not limited to: Subject interviews, witness interviews, victim interviews, examination of records and data, law enforcement databases, evidence gathered at crime scenes, and personal information furnished by the individuals themselves.

System Exempted from Certain provisions of the Act:

Pursuant to 5 U.S.C. 552a(k)(2), this system of records has been exempted from the requirements of 5 U.S.C. 552a(c)(3), (d), (e)(1), (3)(4)(G), (H), (I), and (f). See 7 CFR 1.123. This exemption will only be used to maintain the efficacy and integrity of law enforcement files, and to prevent access to certain law enforcement files, which would alert subjects of investigations that their activities are being scrutinized and thus allow them time to take measures to prevent detection of illegal action or escape prosecution. Any individual who feels, however, that they have been denied any right, privilege, or benefit for which they would otherwise be eligible as a result of the maintenance of such material may request access to the material by submitting a written request to the system manager.

[FR Doc. 04-20930 Filed 9-16-04; 8:45 am]

BILLING CODE 3410-11-M